DEPARTMENT OF ENERGY

Federal Energy Regulatory Commission

[Docket No. IC01-546-000, FERC-546]

Proposed Information Collection and Request for Comments

December 19, 2000.

AGENCY: Federal Energy Regulatory Commission, DOE.

ACTION: Notice of proposed information collection and request for comments.

SUMMARY: In compliance with the requirements of Section 3506(c)(2)(a) of the Paperwork Reduction Act of 1995 (Pub. L. 104-13), the Federal Energy Regulatory Commission (Commission) is soliciting public comment on the specific aspects of the information collection described below.

DATES: Consideration will be given to comments submitted on or before February 26, 2001.

ADDRESSES: Copies of the proposed collection of information can be obtained from and written comments may be submitted to the Federal Energy Regulatory Commission, Attn: Michael Miller, Office of the Chief Information Officer, CI-1, 888 First Street N.E., Washington, DC 20426.

FOR FURTHER INFORMATION CONTACT: Michael Miller may be reached by telephone at (202) 208-1415, by fax at (202) 208-2425, and by e-mail at mike.miller@ferc.fed.us.

SUPPLEMENTARY INFORMATION: The information collected under the requirements of FERC-546 “Certificated Rate Filings: Gas Pipeline Rates” (OMB No. 1902-0155) is used by the Commission to implement the statutory provisions of Title IV of the Natural Gas Policy Act (NGPA), (15 U.S.C. 3301-3432) and Sections 4, 5, and 16 of the Natural Gas Act (NGA) (15 U.S.C. 717-717w). The Commission has the regulatory responsibility under these Acts to ensure that pipeline rates and services are just and reasonable and not unduly discriminatory. Accordingly, jurisdictional natural gas pipeline companies are required to obtain Commission approval for all rates and charges made, or demanded, in connection with the transportation or sale of natural gas in interstate commerce.

Service and tariff revision information necessary for Commission examination and subsequent approval of any certificated pipeline change in service is collected under FERC-546. (Information necessary to examine and approve any change in rates is collected separately under FERC-542 for tracking filings (non-formal), and 544 and 545 for general rate change filings, including NGA Section 4 major rate cases, (formal and non-formal respectively)). The required FERC-546 information is set forth in each pipeline's tariff, and must be filed in compliance with Commission regulations found in 18 CFR Part 154.4; 154.7; 154.202; 154.204-.209; and 154.602-.603.

Action: The Commission is requesting a three-year extension of the current expiration date, with no changes to the existing collection of data.

Burden Statement: Public reporting burden for this collection remains unchanged from the previous renewal and is estimated as:

Number of respondents annually (1) | Number of responses per respondent (2) | Average burden hours per response (3) | Total annual burden hours (1)x(2)x(3)
77 | 4 | 40 | 12,320

The estimated total cost to respondents is: $683,268 (12,320 hours/2,080 hours per year per employee times $115,357 ¹ per year per average employee = $683,268). The cost per respondent is equal to $8,874.

¹ The cost per year per average employee estimate is based on the annual allocated cost per Commission employee for fiscal year 2001. The estimated $115,357 cost consists of approximately $92,286 in salary and $23,071 in benefits and overhead.

The reporting burden includes the total time, effort, or financial resources expended to assemble and disseminate the information including: (1) Reviewing the instructions; (2) developing, or acquiring appropriate technological support systems necessary for the purposes of collecting, validating, processing, and disseminating the information; (3) administration; and (4) transmitting, or otherwise disclosing the information.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's burden estimate of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

David P. Boergers,
Secretary.

[FR Doc. 00-32798 Filed 12-22-00; 8:45 am]

BILLING CODE 6717-01-M